DEPARTMENT OF ENERGY

Federal Energy Regulatory Commission

[Docket No. CP16-454-000; Docket No. CP16-455-000; Docket No. CP20-481-000]

Rio Grande LNG, LLC; Rio Bravo Pipeline Company, LLC; Notice of Availability of the Final Supplemental Environmental Impact Statement for the Proposed Rio Grande LNG Terminal and Rio Bravo Pipeline Project

The staff of the Federal Energy Regulatory Commission (FERC or Commission) has prepared a final supplemental environmental impact statement (EIS) to address the August 6, 2024 opinion issued by the U.S. Court of Appeals for the District of Columbia Circuit (court) regarding the Commission's environmental review of the Rio Grande LNG Terminal and Rio Bravo Pipeline Project proposed by Rio Grande LNG, LLC and Rio Bravo Pipeline Company, LLC, respectively.1 2 The court remanded the Commission's April 21, 2023 Order on Remand and Amending Section 7 Certificate that approved the liquefied natural gas (LNG) terminal and pipeline project. The court found that FERC failed to issue a supplemental EIS consistent with the National Environmental Policy Act to discuss impacts on communities with environmental justice concerns, address why the Commission did not use data from a particular air quality monitor in the air analysis, and address a carbon capture and sequestration proposal. As part of the Commission's consideration of the proposed projects on remand, we ³ prepared this final supplemental EIS to assess the issues remanded by the court.

¹ For tracking purposes under the National Environmental Policy Act, the unique identification number for documents relating to this environmental review is FERC/SEIS-019-20-000-1726224918.

² City of Port Isabel v. FERC, 111 F.4th 1198 (D.C. Cir. 2024). On March 18, 2025, the court partially granted rehearing and remanded the case without vacatur [City of Port Isabel v. FERC, No. 23-1174 (D.C. Cir. Mar. 18, 2025)].

³ “We,” “us,” and “our” refer to the environmental and engineering staff of the FERC's Office of Energy Projects.

The Commission mailed a copy of the Notice of Availability of the final supplemental EIS to federal, state, and local government representatives and agencies; elected officials; environmental and public interest groups; Native American Tribes; potentially affected landowners and other interested individuals and groups; and newspapers and libraries in the project area. The final supplemental EIS is only available in electronic format. It may be viewed and downloaded from the FERC's website (www.ferc.gov), on the natural gas environmental documents page (https://www.ferc.gov/industries-data/natural-gas/environment/environmental-documents). In addition, the final supplemental EIS may be accessed by using the eLibrary link on the FERC's website. Click on the eLibrary link (https://elibrary.ferc.gov/eLibrary/search) select “General Search” and enter the docket number in the “Docket Number” field, excluding the last three digits (i.e., CP16-454, CP16-455, or CP20-481). Be sure you have selected an appropriate date range. For assistance, please contact FERC Online Support at FercOnlineSupport@ferc.gov or toll free at (866) 208-3676, or for TTY, contact (202) 502-8659.

Additional information about the projects is available from the Commission's Office of External Affairs, at (866) 208-FERC, or on the FERC website at www.ferc.gov using the eLibrary link. The eLibrary link also provides access to the texts of all formal documents issued by the Commission, such as orders, notices, and rulemakings.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

In addition, the Commission offers a free service called eSubscription that allows you to keep track of all formal issuances and submittals in specific dockets. This can reduce the amount of time you spend researching proceedings by automatically providing you with notifications of these filings, document summaries, and direct links to the documents. Go to https://www.ferc.gov/ferc-online/overview to register for eSubscription.

Dated: July 31, 2025.
Debbie-Anne A. Reese,
Secretary.

[FR Doc. 2025-14837 Filed 8-4-25; 8:45 am]

BILLING CODE 6717-01-P